DEPARTMENT OF TRANSPORTATION

Federal Aviation Administration

14 CFR Part 39

[Docket No. FAA-2010-0380; Directorate Identifier 2009-NM-009-AD; Amendment 39-16444; AD 2010-20-10]

RIN 2120-AA64

Airworthiness Directives; The Cessna Aircraft Company Model 750 Airplanes

AGENCY: Federal Aviation Administration (FAA), Department of Transportation (DOT).

ACTION: Final rule.

SUMMARY: The FAA is superseding an existing airworthiness directive (AD), which applies to all Model 750 airplanes. That AD currently requires inspecting the inboard-hinge brackets of the left and right elevators for cracking and doing related investigative and corrective actions if necessary. For certain airplanes, this new AD requires inspecting for cracks of the bracket of the inboard horizontal stabilizer and measuring the lug thickness of the horizontal stabilizer hinges; doing corrective actions if necessary; and modifying the left and right elevators and left and right horizontal stabilizer. For all airplanes, this new AD requires replacing the existing elevator assemblies with new elevator assemblies, which terminates the requirements of the existing AD. This new AD also revises the applicability to remove certain airplanes. This AD results from a report of cracking found on the elevator inboard-hinge brackets and the horizontal stabilizer hinges. We are issuing this AD to prevent such cracking of the elevator inboard-hinge brackets and the horizontal stabilizer hinges, which could result in structural failure of the elevators and consequent loss of control of the airplane.

DATES: This AD becomes effective November 1, 2010.

The Director of the Federal Register approved the incorporation by reference of a certain publication listed in the AD as of November 1, 2010.

On November 22, 2006 (71 FR 65047, November 7, 2006), the Director of the Federal Register approved the incorporation by reference of a certain other publication listed in the AD.

ADDRESSES: For service information identified in this AD, contact Cessna Aircraft Co., P.O. Box 7706, Wichita, Kansas 67277; telephone 316-517-6215; fax 316-517-5802; e-mail citationpubs@cessna.textron.com; Internet https://www.cessnasupport.com/newlogin.html.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: T.N. Baktha, Aerospace Engineer, Airframe Branch, ACE-118W, FAA, Wichita Aircraft Certification Office, 1801 Airport Road, Room 100, Mid-Continent Airport, Wichita, Kansas 67209; telephone (316) 946-4155; fax (316) 946-4107.

SUPPLEMENTARY INFORMATION:

Discussion

The FAA issued a notice of proposed rulemaking (NPRM) to amend 14 CFR part 39 to include an AD that supersedes AD 2006-23-05, amendment 39-14817 (71 FR 65047, November 7, 2006). The existing AD applies to all Model 750 airplanes. That NPRM was published in the Federal Register on April 8, 2010 (75 FR 17879). That NPRM proposed to continue to require inspecting the inboard-hinge brackets of the left and right elevators for cracking and doing related investigative and corrective actions if necessary. For certain airplanes that NPRM proposed to require an inspection for cracks and corrosion of the bracket of the inboard horizontal stabilizer and measuring the lug thickness of the horizontal stabilizer hinges; doing corrective actions if necessary; and modifying the left and right elevators and left and right horizontal stabilizer. For all airplanes, that NPRM proposed to require replacing the existing elevator assemblies with new elevator assemblies, which would terminate the requirements of the existing AD. That NPRM also proposed to revise the applicability to remove certain airplanes.

Comments

We provided the public the opportunity to participate in the development of this AD. We have considered the comments that have been received on the NPRM.

Request To Remove References to Corrosion

Cessna Aircraft Company requests that in the “Differences Between the Proposed AD and Service Bulletin” section of the NPRM the sentence, “This proposed AD would also require an inspection for corrosion and replacement of any corroded brackets,” be removed. Cessna states that corrosion of the brackets has not been an issue, and current maintenance practices are sufficient. Cessna states that the requirement to inspect the horizontal hinge brackets for corrosion will complicate compliance for operators that have already complied with previous revisions of Cessna Service Bulletin SB750-27-62. Cessna states that the addition of an inspection for corrosion of the horizontal inboard hinge in paragraph (k)(1) of the NPRM is not specified in Cessna Service Bulletin SB750-27-62, Revision 3, dated August 21, 2009.

We agree with Cessna's request. Since the NPRM was issued, we have received sufficient technical information to support the request. We have changed the AD to remove references to corrosion.

Request To Clarify Table 1 of the NPRM

Cessna states that it is unclear which requirements of paragraph (k) of the NPRM are covered by previous revisions of Cessna Service Bulletin SB750-27-62. Cessna requests that we amend Table 1 of the NPRM to reference paragraphs (k)(1), (k)(2), and (k)(3) of the NPRM.

We partially agree with Cessna's request. In lieu of revising Table 1 of this AD, we have changed paragraph (l) of this AD to show that actions accomplished before the effective date of this AD, in accordance with the service bulletins identified in Table 1 of this AD, are considered acceptable for compliance with the corresponding requirements of paragraphs “(k)(1), (k)(2), and (k)(3) of this AD.”

Request To Clarify the Effect of Previous Compliance

JATEC requests that we explain how the NPRM affects airplanes that have already complied with Cessna Service Bulletin SB750-27-62, Revision 3, dated August 21, 2009. JATEC asks if anything further is required once Revision 3 has been incorporated.

As specified in paragraph (f) of this AD, you are responsible for having the actions required by this AD performed within the compliance time specified, unless the actions have already been done. In addition, as specified in paragraph (k) of this AD, once the actions required by that paragraph are accomplished, the requirements of paragraphs (g) through (j) of this AD are terminated; no further action is required. No changes to this AD are necessary in this regard.

Conclusion

We have carefully reviewed the available data, including the comments that have been received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.- registered airplanes | Fleet cost
Inspection (required by AD 2006-23-05) | 2 | $85 | $0 | $170 | 253 | $43,010.
Modification and Replacement (new actions) | Up to 200 | 85 | The manufacturer states that it will supply parts to the operators at no cost | Up to $17,000 | 253 | Up to $4,301,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14817 (71 FR 65047, November 7, 2006) and by adding the following new airworthiness directive (AD):

2010-20-10 The Cessna Aircraft Company: Amendment 39-16444. Docket No. FAA-2010-0380; Directorate Identifier 2009-NM-009-AD.

Effective Date

(a) This AD becomes effective November 1, 2010.

Affected ADs

(b) This AD supersedes AD 2006-23-05, Amendment 39-14817.

Applicability

(c) This AD applies to The Cessna Aircraft Company Model 750 airplanes, certificated in any category, as identified in Cessna Service Bulletin SB750-27-62, Revision 3, dated August 21, 2009.

Subject

(d) Air Transport Association (ATA) of America Code 27: Flight Controls.

Unsafe Condition

(e) This AD results from a report of cracking found on the elevator inboard-hinge brackets and the horizontal stabilizer hinges. The Federal Aviation Administration is issuing this AD to prevent cracking of the elevator inboard-hinge brackets and the horizontal stabilizer hinges, which could result in structural failure of the elevators and consequent loss of control of the airplane.

Compliance

(f) You are responsible for having the actions required by this AD performed within the compliance times specified, unless the actions have already been done.

Restatement of Requirements of AD 2006-23-05, With No Changes

Inspection

(g) After the airplane accumulates 2,500 total flight hours: Perform a general visual inspection for cracking of the inboard-hinge brackets of the left and right elevators in accordance with the Accomplishment Instructions of Cessna Alert Service Letter ASL750-27-21, dated October 13, 2006. Do the inspection before the airplane accumulates 3,000 total flight hours, or within 10 flight hours after November 22, 2006 (the effective date of AD 2006-23-05), whichever is later.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Related Investigative and Corrective Actions

(h) If any crack is found during the inspection required by paragraph (g) of this AD: Before further flight, perform an eddy current inspection of the inboard-hinge brackets to determine the crack length, in accordance with the Accomplishment Instructions of Cessna Alert Service Letter ASL750-27-21, dated October 13, 2006; and do the actions specified in paragraph (h)(1) or (h)(2) of this AD, as applicable, at the time specified. All corrective actions must be done using a method approved by the Manager, Wichita Aircraft Certification Office (ACO), FAA. For a replacement method to be approved by the Manager, Wichita ACO, as required by this paragraph, the Manager's approval letter must specifically refer to this AD.

(1) If the crack is 0.30 inch or more: Replace the bracket before further flight.

(2) If the crack is less than 0.30 inch: Continued flight for a maximum of 10 flight hours for repositioning of the airplane and replacement of the bracket is allowed, within the restricted flight envelope included in the attachment to Cessna Alert Service Letter ASL750-27-21, dated October 13, 2006, titled “Flight Restrictions.”

Special Flight Permits

(i) Special flight permits, as described in Section 39.23 of the Federal Aviation Regulations (14 CFR 39.23), are allowed with the limitations required by paragraph (h)(2) of this AD.

No Reporting or Return of Parts to Manufacturer

(j) Cessna Alert Service Letter ASL750-27-21, dated October 13, 2006, specifies submitting a sheet related to inspection results to the manufacturer; this AD does not include that requirement. The service letter also specifies sending the elevator assembly to the manufacturer for replacement of the inboard-hinge bracket if a crack is found that is 0.30 inch or more; however, this AD requires corrective actions be done using a method approved by us.

New Requirements of This AD

(k) Within 60 months after the effective date of this AD, do the applicable actions required by paragraphs (k)(1), (k)(2), (k)(3), and (k)(4) of this AD, in accordance with the Accomplishment Instructions of Cessna Service Bulletin SB750-27-62, Revision 3, dated August 21, 2009. Accomplishing the actions required by paragraph (k) of this AD terminates the requirements of paragraphs (g) through (j) of this AD.

(1) For all airplanes except those having S/Ns 288 through 305 inclusive: Do an eddy current inspection for cracks of the bracket of the inboard horizontal stabilizer. Before further flight, replace any cracked bracket of the inboard horizontal stabilizer with a serviceable bracket.

(2) For all airplanes except those having S/Ns 288 through 305 inclusive: Measure the lug thickness of the horizontal stabilizer hinges. If the lug thickness is not within the acceptable tolerance range, as identified in Cessna Service Bulletin SB750-27-62, Revision 3, dated August 21, 2009, before further flight, replace the bearing plate with a serviceable bearing plate.

(3) For all airplanes except those having S/Ns 288 through 305 inclusive: Modify the left and right horizontal stabilizer; and add the modification part number of the horizontal stabilizer to the modification section of the MS27253-1 identification plate.

(4) For all airplanes: Replace the existing elevator assemblies with new elevator assemblies having part numbers 6734000-17 (for the left side) and 6734000-18 (for the right side).

Credit for Actions Done Using the Previous Service Information

(l) Actions accomplished before the effective date of this AD in accordance with the service bulletins identified in Table 1 of this AD are considered acceptable for compliance with the corresponding requirements of paragraphs (k)(1), (k)(2), and (k)(3) of this AD.

Table 1—Credit for Previous Service Bulletins
Service Bulletin | Revision level | Date
Cessna Service Bulletin SB750-27-62 | (¹) | October 13, 2008.
Cessna Service Bulletin SB750-27-62 | 1 | October 22, 2008.
Cessna Service Bulletin SB750-27-62 | 2 | December 17, 2008.
¹ Original.

Alternative Methods of Compliance (AMOCs)

(m)(1) The Manager, Wichita ACO, FAA, has the authority to approve AMOCs for this AD, if requested using the procedures found in 14 CFR 39.19. Send information to ATTN: T.N. Baktha, Aerospace Engineer, Airframe Branch, ACE-118W, FAA, Wichita ACO, 1801 Airport Road, Room 100, Mid-Continent Airport, Wichita, Kansas 67209; telephone (316) 946-4155; fax (316) 946-4107.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(n) You must use Cessna Alert Service Letter ASL750-27-21, excluding the attachment titled “Inspection Results Form” and including the attachment titled “Flight Restrictions,” dated October 13, 2006; and Cessna Service Bulletin SB750-27-62, Revision 3, dated August 21, 2009, including Service Bulletin Supplemental Data, Revision D, dated September 18, 2009; as applicable; to do the actions required by this AD, unless the AD specifies otherwise.

(1) The Director of the Federal Register approved the incorporation by reference of Cessna Service Bulletin SB750-27-62, Revision 3, dated August 21, 2009, including Service Bulletin Supplemental Data, Revision D, dated September 18, 2009, under 5 U.S.C. 552(a) and 1 CFR part 51.

(2) The Director of the Federal Register previously approved the incorporation by reference of Cessna Alert Service Letter ASL750-27-21, excluding the attachment titled “Inspection Results Form” and including the attachment titled “Flight Restrictions,” dated October 13, 2006, on November 22, 2006 (71 FR 65047, November 7, 2006).

(3) For service information identified in this AD, contact Cessna Aircraft Co., P.O. Box 7706, Wichita, Kansas 67277; telephone 316-517-6215; fax 316-517-5802; e-mail citationpubs@cessna.textron.com; Internet https://www.cessnasupport.com/newlogin.html.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on September 15, 2010.
Robert D. Breneman,
Acting Manager, Transport Airplane Directorate, Aircraft Certification Service.

[FR Doc. 2010-23834 Filed 9-24-10; 8:45 am]

BILLING CODE 4910-13-P